NUCLEAR REGULATORY COMMISSION

International Uranium (USA) Corporation; Notice or Consideration of Issuance of Amendments to Facility Operation Licenses, Proposed No Significant Hazards Consideration Determination, Opportunity for a Hearing; Correction

AGENCY: Nuclear Regulatory Commission.

ACTION: Notice of issuance; correction.

SUMMARY: This document corrects a notice appearing in the Federal Register on December 11, 2001 (66 FR 64064), that considers issuance of notice of opportunity for hearing issued to the International Uranium (USA) Corporation. This action is necessary to correct an erroneous text.

FOR FURTHER INFORMATION CONTACT: Mr. William von Till, Fuel Cycle Licensing Branch, Division of Fuel Cycle Safety and Safeguards, Office of Nuclear Material Safety and Safeguards, telephone (301) 415-6251.

SUPPLEMENTARY INFORMATION: On page 64064, in the third column, in the first complete paragraph, the text is changed from “The U.S. Nuclear Regulatory Commission (NRC) proposes to accept the license amendment for the NRC Materials License SUA-1358 to authorize the licensee, International Uranium (USA) Corporation (IUSA), to allow for the and reclamation of the White Mesa uranium mill, located near Blanding, Utah,” to read, “The U.S. Nuclear Regulatory Commission (NRC) proposes to accept the license amendment for the NRC Materials License SUA-1358 to authorize the licensee, International Uranium (USA) Corporation (IUSA), to allow for the receipt and processing of alternate feed material, from the Molycorp facility located in Mountain Pass, California, at the White Mesa uranium mill, located near Blanding, Utah.” Also, on page 64065 in the second column, in the fifth complete paragraph the text is changed from “The NRC staff has prepared an Environmental Assessment for the proposed reclamation plan for NRC Source Material License SUA-1358,” to read, “The NRC staff has prepared an Environmental Assessment to assess the potential environmental impacts of allowing for the receipt and processing of alternate feed material, from the Molycorp facility located in Mountain Pass, California, for NRC Source Material License SUA-1358.”

Dated at Rockville, Maryland, this 12th day of December, 2001.
Melvyn N. Leach,
Chief, Fuel Cycle Licensing Branch, Division of Fuel Cycle Safety and Safeguards, Office of Nuclear Material Safety and Safeguards.

[FR Doc. 01-31156 Filed 12-17-01; 8:45 am]

BILLING CODE 7590-01-P